DEPARTMENT OF DEFENSE

Office of the Secretary

[Transmittal No. 24-07]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-07, Policy Justification, and Sensitivity of Technology.

Dated: December 31, 2024.
Stephanie J. Bost,
Alternate OSD Federal Register Liaison Officer, Department of Defense.

BILLING CODE 6001-FR-P

BILLING CODE 6001-FR-C

Transmittal No. 24-07

Notice of Proposed Issuance of Letter of Offer Pursuant to Section 36(b)(1) of the Arms Export Control Act, as amended

(i) Prospective Purchaser: Government of India

(ii) Total Estimated Value:

Major Defense Equipment * | $1.70 billion
Other | $2.29 billion
TOTAL | $3.99 billion

Funding Source: National Funds

(iii) Description and Quantity or Quantities of Articles or Services under Consideration for Purchase:

Major Defense Equipment (MDE):

Thirty-one (31) MQ-9B Sky Guardian Aircraft

One hundred sixty-one (161) Embedded Global Positioning & Inertial Navigation Systems (EGIs)

Thirty-five (35) L3 Rio Grande Communications Intelligence Sensor Suites

One hundred seventy (170) AGM-114R Hellfire Missiles

Sixteen (16) M36E9 Hellfire Captive Air Training Missiles (CATM)

Three hundred ten (310) GBU-39B/B Laser Small Diameter Bombs (LSDB)

Eight (8) GBU-39B/B LSDB Guided Test Vehicles (GTVs) with live fuzes

Non-MDE:

Also included are Certifiable Ground Control Stations; TPE-331-10-GD engines; M299 Hellfire missile launchers; KIV-77 cryptographic appliques and other Identification Friend or Foe (IFF) equipment; KOR-24A Small Tactical Terminals (STT); AN/SSQ-62F, AN/SSQ-53G, and AN/SSQ-36 sonobuoys; ADU-891/E Adapter Group Test Sets; Common Munitions Built-In-Test (BIT) Reprogramming Equipment (CMBRE); GBU-39B/B tactical training rounds, Weapons Load Crew Trainers, and Reliability Assessment Vehicles-Instrumented; Portable Pre-flight/Post-flight Equipment (P3E); CCM-700A encryption devices; KY-100M narrowband/wideband terminals; KI-133 cryptographic units; AN/PYQ-10 Simple Key Loaders; Automatic Identification System (AIS) transponders; ROVER 6Si and TNR2x transceivers; MR6000 ultra high frequency (UHF) and very high frequency (VHF) radios; Selex SeaSpray Active Electronically Scanned Array (AESA) surveillance radars; HISAR-300 radars; SNC 4500 Auto Electronic Surveillance Measures (ESM) Systems; SAGE 750 ESM systems; Due Regard Radars (DRR); MX-20 Electro-Optical Infrared (E.O.-IR) Laser Target Designators (LTDs); Ku-Band SATCOM GAASI Transportable Earth Stations (GATES); C-Band Line-of-Sight (LOS) Ground Data Terminals; AN/DPX-7 IFF transponders; Compact Multi-band Data Links (CMDL); initial spare and repair parts, consumables, accessories, and repair and return support; secure communications, precision navigation, and cryptographic equipment; munitions support and support equipment; testing and integration support and equipment; classified and unclassified software delivery and support; classified and unclassified publications and technical documentation; personnel training and training equipment; transportation support; warranties; studies and surveys; U.S. Government and contractor engineering, technical, and logistics support services; and other related elements of logistics and program support.

(iv) Military Department: Air Force (IN-D-SAF)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: February 1, 2024

*As defined in Section 47(6) of the Arms Export Control Act.

POLICY JUSTIFICATION

India—MQ-9B Remotely Piloted Aircraft

The Government of India has requested to buy thirty-one (31) MQ-9B Sky Guardian aircraft; one hundred sixty-one (161) Embedded Global Positioning & Inertial Navigation Systems (EGIs); thirty-five (35) L3 Rio Grande Communications Intelligence Sensor Suites; one hundred seventy (170) AGM-114R Hellfire missiles; sixteen (16) M36E9 Hellfire Captive Air Training Missiles (CATM); three hundred ten (310) GBU-39B/B Laser Small Diameter Bombs (LSDB); and eight (8) GBU-39B/B LSDB Guided Test Vehicles (GTVs) with live fuzes. Also included are Certifiable Ground Control Stations; TPE-331-10-GD engines; M299 Hellfire missile launchers; KIV-77 cryptographic appliques and other Identification Friend or Foe (IFF) equipment; KOR-24A Small Tactical Terminals (STT); AN/SSQ-62F, AN/SSQ-53G, and AN/SSQ-36 sonobuoys; ADU-891/E Adapter Group Test Sets; Common Munitions Built-In-Test (BIT) Reprogramming Equipment (CMBRE); GBU-39B/B tactical training rounds, Weapons Load Crew Trainers, and Reliability Assessment Vehicles-Instrumented; Portable Pre-flight/Post-flight Equipment (P3E); CCM-700A encryption devices; KY-100M Narrowband/wideband terminals; KI-133 cryptographic units; AN/PYQ-10 Simple Key Loaders; Automatic Identification System (AIS) transponders; ROVER 6Si and TNR2x transceivers; MR6000 ultra high frequency (UHF) and very high frequency (VHF) radios; Selex SeaSpray Active Electronically Scanned Array (AESA) surveillance radars; HISAR-300 Radars; SNC 4500 Auto Electronic Surveillance Measures (ESM) Systems; SAGE 750 ESM systems; Due Regard Radars (DRR); MX-20 Electro-Optical Infrared (E.O.-IR) Laser Target Designators (LTDs); Ku-Band SATCOM GAASI Transportable Earth Stations (GATES); C-Band Line-of-Sight (LOS) Ground Data Terminals; AN/DPX-7 IFF transponders; Compact Multi-band Data Links (CMDL); initial spare and repair parts, consumables, accessories, and repair and return support; secure communications, precision navigation, and cryptographic equipment; munitions support and support equipment; testing and integration support and equipment; classified and unclassified software delivery and support; classified and unclassified publications and technical documentation; personnel training and training equipment; transportation support; warranties; studies and surveys; United States (U.S.) Government and contractor engineering, technical, and logistics support services; and other related elements of logistics and program support. The estimated total cost is $3.99 billion.

This proposed sale will support the foreign policy and national security objectives of the U.S. by helping to strengthen the U.S.-Indian strategic relationship and to improve the security of a major defensive partner which continues to be an important force for political stability, peace, and economic progress in the Indo-Pacific and South Asia region.

The proposed sale will improve India's capability to meet current and future threats by enabling unmanned surveillance and reconnaissance patrols in sea lanes of operation. India has demonstrated a commitment to modernizing its military and will have no difficulty absorbing these articles and services into its armed forces.

The proposed sale of this equipment and support will not alter the basic military balance in the region. The principal contractor will be General Atomics Aeronautical Systems, Poway, CA. The purchaser typically requests offsets. Any offset agreement will be defined in negotiations between the purchaser and the contractor.

Implementation of this proposed sale will not require the assignment of any additional U.S. Government or contractor representatives to India.

There will be no adverse impact on U.S. defense readiness as a result of this proposed sale.

Transmittal No. 24-07

Notice of Proposed Issuance of Letter of Offer Pursuant to Section 36(b)(1) of the Arms Export Control Act

Annex

Item No. vii

(vii) Sensitivity of Technology:

1. The MQ-9B Remotely Piloted Aircraft (RPA) is a weapons-ready aircraft designed for Medium-Altitude Long-Endurance (MALE); Intelligence, Surveillance, and Reconnaissance (ISR); Target Acquisition; and Strike Missions. The MQ-9B RPA is not a USAF program of record, but has close ties to, and builds upon, the proven success of the MQ-9A Reaper. The MQ-9B is a highly modular, easily configurable aircraft that contains the necessary hard points, power, and data connections to accommodate a variety of payloads and munitions to meet multiple missions—including counter-land, counter-sea, and anti-submarine strike operations. The system is designed to be controlled by two operators within a Certifiable Ground Control Station (CGCS). The MQ-9B is able to operate using a direct Line-of-Sight (LOS) datalink or Beyond Line-of-Sight (BLOS) through satellite communications (SATCOM). The MQ-9B system can be deployed from a single site that supports launch, recovery, mission control, and maintenance. The system also supports remote-split operations where launch, recovery, and maintenance occur at a Forward Operating Base and mission control is conducted from another location or Main Operating Base (MOB).

a. The Honeywell TPE-331-10-GD is a turboprop engine with power output ranging from 429 to 1,230 kW.

b. The M-Code capable Embedded Global Positioning System/Inertial Navigation System (GPS/INS) (EGI), with an embedded GPS Precise Positioning Service (PPS) Receiver Application Module-Standard Electronic Module (GRAM-S/M), is a self-contained navigation system that provides acceleration, velocity, position, attitude, platform azimuth, magnetic and true heading, altitude, body angular rates, time tags, and coordinated universal time (UTC) synchronized time. The embedded GRAM-S/M enables access to both the encrypted P(Y) and M-Code signals, providing protection against active spoofing attacks, enhanced military exclusivity, integrity, and anti-jam.

c. The MX-20HD is a gyro-stabilized, multi-spectral, multi-field-of-view (FOV) Electro-Optical/Infrared (E.O./IR) targeting system. The system provides surveillance laser illumination and laser designation through use of an externally mounted turret sensor unit and internally mounted master control. Sensor video imagery is displayed in the aircraft in real time and may be recorded for subsequent analysis.

2. The Ground Control Station (GCS) can be either fixed or mobile. The fixed GCS is enclosed in a customer-specified shelter. It incorporates workstations that allow operators to control and monitor the aircraft, as well as record and exploit downlinked payload data. The mobile GCS allows operators to perform the same functions and is contained on a mobile trailer. Workstations in either GCS can be tailored to meet customer requirements.

3. L3 Rio Grande capabilities meet rigorous mission requirements for small, manned and unmanned intelligence, surveillance, and reconnaissance (ISR) platforms. Rio Grande intercepts, locates, monitors, and records communications signals using a common set of software applications. Rio Grande operates open architecture design, supports third-party special signals applications, real-time audio recording and playback, and a three-dimensional display of the area of interest.

4. The AGM-114R Hellfire is a missile equipped with a Semi-Active Laser (SAL) seeker that homes-in on the reflected light of a laser designator. The AGM-114R can be launched from higher altitudes than previous variants because of its enhanced guidance and navigation capabilities, which include a Height-of-Burst (HOB) proximity sensor. With its multi-purpose warhead, the missile can destroy hard, soft, and enclosed targets. The sale will include Captive Air Flight Training Missiles (CATM), which are inert devices used for training to handle Hellfire missiles.

5. The GBU-39B/B Laser Small Diameter Bomb (LSDB) All Up Round (AUR) is a 250-pound GPS and semi-active laser guided, small autonomous, day or night, adverse weather, conventional, air-to-ground precision glide weapon able to strike fixed and stationary, re-locatable, non-hardened targets from standoff ranges. The LSDB's laser guidance set enables the weapon to strike moving targets. It is intended to provide aircraft with an ability to carry a high number of bombs. Aircraft are able to carry four SDBs in place of one 2,000-pound bomb. The Guided Test Vehicle, Reliability Assessment Vehicle-Instrumented, Tactical Training Round (TTR), and Weapons Load Crew Trainer are LSDB configurations with telemetry kits or inert fills in place of the warhead and are used to test the LSDB weapon system or for flight and ground crew training.

6. The M299 launcher provides a mechanical and electrical interface between the Hellfire missile and aircraft.

7. The KIV-77 is a cryptographic applique for IFF. It can be loaded with Mode 5 classified elements.

8. The KOR-24A Small Tactical Terminal is a command, control, communications, and intelligence (C3I) system incorporating high-capacity, jam-resistant, digital communication links for exchange of near real-time tactical information, including both data and voice, among air, ground, and sea elements.

9. AN/SSQ-62F is a sixth-generation, Directional Command Active Sonobuoy System (DICASS) sonobuoy used for detecting and localizing submarines. The DICASS sonobuoy can provide both range and bearing to the target for accurate position fixing. Like the AN/SSQ-62E, the AN/SSQ-62F sonobuoy can support any of the four acoustic frequencies as selected via the Electronic Function Select.

10. AN/SSQ-53G is a sonobuoy which combines a passive directional and calibrated wide-band omni capability into a single multi-functional sonobuoy. It features both Electronic Function Select (EFS) for use prior to loading and launching and Command Function Select (CFS) to allow the operator to modify the sonobuoy's modes of operation after it has been deployed in the water.

11. AN/SSQ-36 is a sonobuoy which provides vertical temperature profiles for Anti-Submarine Warfare (ASW) applications to evaluate local effects of seawater temperature on sonar propagation and acoustic range prediction.

12. The Portable Pre-flight/Post-flight Equipment (P3E) is used by the ground crew at the MQ-9B operating sites to interface with the aircraft for performing maintenance functions. The P3E is a ruggedized computer assembly that interfaces directly with the aircraft via a cable and provides functionality for conducting pre and post-flight checks, and to establish the aircraft on the SATCOM datalink for handover to the flight crew in the Ground Control Station. The ADU-891 Adapter Group Test Set provides the physical and electrical interface between the Common Munitions Built-in-Test Reprogramming Equipment (CMBRE) and the missile.

13. Common Munitions Built-In-Test (BIT)/Reprogramming Equipment (CMBRE) is support equipment used to interface with weapon systems to initiate and report BIT results and upload and download flight software. CMBRE supports multiple munitions platforms with a range of applications that perform preflight checks, periodic maintenance checks, loading of Operational Flight Program (OFP) data, loading of munitions mission planning data, loading of Global Positioning System (GPS) cryptographic keys, and declassification of munitions memory.

14. The KY-100M is a cryptographic-modernized lightweight terminal for secure voice and data communications. The KY-100M provides wideband and narrowband half-duplex communication. Operating in tactical ground, marine, and airborne applications, the KY-100M enables secure communication with a broad range of radio and satellite equipment.

15. The KI-133 is used with a MQ-9B unique radio implementation, specifically using X Band. The KI-133 does not operate with a modem and is not a radio, rather it is an inline encryptor utilizing the KIV 700A for encryption and decryption.

16. The AN/PYQ-10 Simple Key Loader is a handheld device used for securely receiving, storing, and transferring data between compatible cryptographic and communications equipment.

17. The Automatic Identification System (AIS) transponder provides maritime patrol and Search and Rescue (SAR) aircraft with the ability to track and identify AIS-equipped vessels over a dedicated very high frequency (VHF) data link. AIS is a key component of any maritime ISR network and offers maritime authorities with the ability to better coordinate air and sea search, rescue, surveillance, and interdiction operations.

18. The L3Harris ROVER 6Si and TNR2x transceivers provide real-time, full-motion video (FMV) and other network data for situational awareness, targeting, battle damage assessment, surveillance, relay, convoy over-watch operations, and other situations where eyes-on-target are required. It provides expanded frequencies and additional processing resources from previous ROVER versions, allowing increased levels of collaboration and interoperability with numerous manned and unmanned airborne platforms.

19. The SAGE 750 Electronic Surveillance Measures (ESM) System is a UK-produced, digital electronic intelligence (ELINT) sensor which analyzes the electromagnetic spectrum to map the source of active emissions. Using highly accurate Direction Finding (DF) antennas, SAGE builds target locations and provides situational awareness, advance warning of threats, and the ability to cue other sensors.

20. The Selex SeaSpray is an Active Electronically Scanned Array (AESA) surveillance radar suitable for a range of capabilities from long-range search to small target detection.

21. HISAR-300 radar provides superior long range, real-time, high-resolution imaging and wide area search capability for overland and maritime surveillance missions, day or night and in all weather conditions.

22. The SNC 4500 Auto Electronic Surveillance Measures (ESM) System is a digital electronic intelligence (ELINT) sensor which analyzes the electromagnetic spectrum to map the source of active emissions. Using highly accurate Direction Finding (DF) antennas, the SNC 4500 builds target locations and provides situational awareness, advance warning of threats, and the ability to cue other sensors.

23. Due Regard Radar (DRR) is a collision avoidance air-to-air radar. DRR is a key component of GA-ASI's overall airborne Detect and Avoid System (DAAS) architecture for the MQ-9B. By tracking non-cooperative aircraft, DRR enables a collision avoidance capability onboard the RPA and allows the pilot to separate the aircraft from other air traffic in cooperation with Air Traffic Control (ATC).

24. The AN/DPX-7 is an Identification Friend or Foe (IFF) transponder used to identify and track aircraft, ships, and some ground forces to reduce friendly fire incidents.

25. The MR6000 ultra high frequency (UHF) and very high frequency radio (VHF) is a multi-band, portable, two-way communication radio.

26. The C-Band Line-of-Sight (LOS) Ground Data Terminals and Ku-Band SATCOM GA-ASI Transportable Earth Stations (GATES) provide command, control, and data acquisition for the MQ-9B.

27. The Compact Multi-band Data Link (CMDL) is a miniaturized, high-performance, wide-band data links operating in Ku, C, L, or S-band, with both analog and digital waveforms. It is interoperable with military and commercial products including Tactical Common Data Link (TCDL) terminals, the complete line of ROVER systems, and coded orthogonal frequency-division multiplexing (COFDM) receivers.

28. The highest level of classification of defense articles, components, and services included in this potential sale is SECRET.

29. If a technologically advanced adversary were to obtain knowledge of the specific hardware and software elements, the information could be used to develop countermeasures that might reduce weapon system effectiveness or be used in the development of a system with similar or advanced capabilities.

30. A determination has been made that India can provide substantially the same degree of protection for the sensitive technology being released as the U.S. Government. This sale is necessary in furtherance of the U.S. foreign policy and national security objectives outlined in the Policy Justification.

31. All defense articles and services listed in this transmittal have been authorized for release and export to India.

[FR Doc. 2024-31699 Filed 1-3-25; 8:45 am]

BILLING CODE 6001-FR-P